DEPARTMENT OF ENERGY

Federal Energy Regulatory Commission

[Project No. 7000-015]

Newton Falls Holdings, LLC; Notice of Public Scoping and Site Visit for the Newton Falls Hydroelectric Project

April 8, 2002.

Pursuant to the National Environmental Policy Act and procedures of the Federal Energy Regulatory Commission, the Commission staff intends to prepare an Environmental Assessment (EA) that evaluates the environmental impacts of issuing a new license for the constructed and operating Newton Falls Hydroelectric Project, No. 7000-015, located on the Oswegatchie River in St. Lawrence County, New York. The subject project does not include federal land.

The EA will consider both site-specific and cumulative environmental effects, if any, of the licensee's proposed actions and reasonable alternatives. Preparation of staff's EA will be supported by a scoping process to ensure identification and analysis of all pertinent issues.

At this time, the Commission staff does not anticipate holding formal public or agency scoping meetings. Rather, the Commission staff will issue a Scoping Document: (1) outlining staff's preliminary evaluation of subject areas to be addressed in the EA; and (2) requesting concerned resource agencies, Native American tribes, non-governmental organizations, and individuals to provide staff with information on project area environmental resources and recreational access needs, and to recommend site-specific issues and concerns that should be evaluated in the EA.

Before issuing the scoping document, Commission staff will hold a site visit of the Newton Falls Hydroelectric Project with representatives of the current licensee and Reliant Energy, the proposed new owner of the project. The site visit will take place: (1) on Monday, May 6, 2002, from 3 p.m. to about 6 p.m.; and (2) on Tuesday, May 7, 2002, from 8:30 a.m. until approximately 11:30 A.M. The purpose of the site visit is to enable Commission staff responsible for preparing the environmental assessment to view the area's existing resources and the project's constructed facilities.

Officials of state and federal resource agencies and representatives of concerned non-governmental organizations are invited to participate at the site visit. Persons planning to attend should notify Mr. Tom Skutnik of Reliant Energy by telephone at (315) 413-2789 or by E-mail at: tskutnik@reliant.com. All participants will meet at the Newton Falls mill parking area located off County Road 60 in Newton Falls, New York.

If you have any questions concerning this matter, please telephone the Commission's Environmental Coordinator for the Newton Falls Project at (202) 219-2780 or contact him by E-mail at james.haimes@ferc.gov.

Magalie R. Salas,
Secretary.

[FR Doc. 02-9038 Filed 4-12-02; 8:45 am]

BILLING CODE 6717-01-P